DEPARTMENT OF LABOR

Employment and Training Administration

[TA-W-56,333]

Westpoint Stevens, Inc., Now Known as Westpoint Home, Inc, Bed Products Division, Clemson, SC; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on February 9, 2005, applicable to workers of the WestPoint Stevens, Inc., Bed Products Division, Clemson, South Carolina. The notice was published in the Federal Register on March 9, 2005 (70 FR 11704).

At the request of a company official, the Department reviewed the certification for workers of the subject firm. The workers are engaged in the production of sheets and pillowcases.

Information submitted to the Department shows that on August 8, 2005, American Real Estate Partners purchased WestPoint Stevens, Inc. and is now known as WestPoint Home, Inc.

Accordingly, the Department is amending this certification to reflect the new ownership.

The intent of the Department's certification is to include all workers of WestPoint Stevens, Inc., Bed Products Division who were adversely affected by increased imports.

The amended notice applicable to TA-W-56,333 is hereby issued as follows:

All workers of WestPoint Stevens, Inc., Now Known as WestPoint Home, Inc., Bed Products Division, Clemson, South Carolina, who became totally or partially separated from employment on or after January 11, 2004, through February 9, 2007, are eligible to apply for adjustment assistance under Section 223 of the Trade Act of 1974, and are also eligible to apply for alternative trade adjustment assistance under Section 246 of the Trade Act of 1974.

Signed at Washington, DC, this 17th day of August, 2005.
Elliott S. Kushner,
Certifying Officer, Division of Trade Adjustment Assistance.

[FR Doc. E5-5189 Filed 9-26-05; 8:45 am]

BILLING CODE 4510-30-P